DEPARTMENT OF ENERGY

Federal Energy Regulatory Commission

Combined Notice of Filings #1

Take notice that the Commission received the following exempt wholesale generator filings:

Docket Numbers: EG19-126-000.

Applicants: Emmons-Logan Wind, LLC.

Description: Notice of Self-Certification of Exempt Wholesale Generator Status of Emmons-Logan Wind, LLC.

Filed Date: 6/13/19.

Accession Number: 20190613-5107.

Comments Due: 5 p.m. ET 7/5/19.

Take notice that the Commission received the following electric rate filings:

Docket Numbers: ER10-1257-007; ER10-1258-007.

Applicants: Wabash Valley Power Association, Inc., Wabash Valley Energy Marketing, Inc.

Description: Supplement to December 21, 2017 Updated Triennial Market Power Analysis in the MISO Balancing Area Authority of Wabash Valley Power Association, Inc., et al.

Filed Date: 6/13/19.

Accession Number: 20190613-5098.

Comments Due: 5 p.m. ET 7/5/19.

Docket Numbers: ER19-1463-002.

Applicants: Upper Michigan Energy Resources Corporation.

Description: Tariff Amendment: Supplement to Filing of Amendment to WDSA to be effective 4/1/2019.

Filed Date: 6/13/19.

Accession Number: 20190613-5069.

Comments Due: 5 p.m. ET 7/5/19.

Docket Numbers: ER19-1818-001.

Applicants: El Paso Electric Company.

Description: Tariff Amendment: Rate Schedule No. 118, EPE-EDF Engineering & Procurement Agreement to be effective 5/10/2019.

Filed Date: 6/10/19.

Accession Number: 20190610-5136.

Comments Due: 5 p.m. ET 7/1/19.

Docket Numbers: ER19-1874-001.

Applicants: PJM Interconnection, L.L.C.

Description: Tariff Amendment: Amendment to NQ147-1 Filing; Notice of Cancellation of NQ147 to be effective 4/22/2019.

Filed Date: 6/12/19.

Accession Number: 20190612-5148.

Comments Due: 5 p.m. ET 7/3/19.

Docket Numbers: ER19-2111-000.

Applicants: Public Service Company of New Mexico.

Description: Notice of cancellation of Interconnection Service Agreement (No. 305) of Public Service Company of New Mexico.

Filed Date: 6/12/19.

Accession Number: 20190612-5107.

Comments Due: 5 p.m. ET 7/3/19.

Docket Numbers: ER19-2112-000.

Applicants: Sky River LLC.

Description: Compliance filing: Sky River LLC Order No. 845 & 845-A Compliance Filing to be effective 5/22/2019.

Filed Date: 6/12/19.

Accession Number: 20190612-5150.

Comments Due: 5 p.m. ET 7/3/19.

Docket Numbers: ER19-2113-000.

Applicants: PJM Interconnection, L.L.C.

Description: § 205(d) Rate Filing: Original ISA No. 5409; Queue No. AC1-166 to be effective 5/16/2019.

Filed Date: 6/13/19.

Accession Number: 20190613-5000.

Comments Due: 5 p.m. ET 7/5/19.

Docket Numbers: ER19-2114-000.

Applicants: Midcontinent Independent System Operator, Inc., Otter Tail Power Company.

Description: § 205(d) Rate Filing: 2019-06-13_SA 3316 Otter Tail-Dakota Range III FSA Blair (J488) to be effective 8/13/2019.

Filed Date: 6/13/19.

Accession Number: 20190613-5031.

Comments Due: 5 p.m. ET 7/5/19.

Docket Numbers: ER19-2115-000.

Applicants: Southwest Power Pool, Inc.

Description: § 205(d) Rate Filing: 1883R8 Westar Energy, Inc. NITSA NOA—Alma to be effective 9/1/2019.

Filed Date: 6/13/19.

Accession Number: 20190613-5037.

Comments Due: 5 p.m. ET 7/5/19.

Docket Numbers: ER19-2116-000.

Applicants: NorthWestern Corporation.

Description: § 205(d) Rate Filing: SA 808 Rev 1st—LGIA with Clearwater (Rosebud County Wind) to be effective 8/13/2019.

Filed Date: 6/13/19.

Accession Number: 20190613-5061.

Comments Due: 5 p.m. ET 7/5/19.

Docket Numbers: ER19-2117-000.

Applicants: NorthWestern Corporation.

Description: § 205(d) Rate Filing: SA 807 Rev 1st—LGIA with Buffalo Trail Solar Energy to be effective 8/13/2019.

Filed Date: 6/13/19.

Accession Number: 20190613-5062.

Comments Due: 5 p.m. ET 7/5/19.

Docket Numbers: ER19-2118-000.

Applicants: Midcontinent Independent System Operator, Inc., Otter Tail Power Company.

Description: § 205(d) Rate Filing: 2019-06-12_SA 3319 Otter Tail-Flying Cow Wind FSA Blair (J493) to be effective 8/13/2019.

Filed Date: 6/13/19.

Accession Number: 20190613-5064.

Comments Due: 5 p.m. ET 7/5/19.

Docket Numbers: ER19-2119-000.

Applicants: Midcontinent Independent System Operator, Inc., Otter Tail Power Company.

Description: § 205(d) Rate Filing: 2019-06-13_SA 3320 Otter Tail-Deuel Harvest Wind Energy Blair (J526) to be effective 8/13/2019.

Filed Date: 6/13/19.

Accession Number: 20190613-5071.

Comments Due: 5 p.m. ET 7/5/19.

Docket Numbers: ER19-2120-000.

Applicants: Southwest Power Pool, Inc.

Description: § 205(d) Rate Filing: 1884R9 Westar Energy, Inc. NITSA NOA—Blue Mound to be effective 9/1/2019.

Filed Date: 6/13/19.

Accession Number: 20190613-5073.

Comments Due: 5 p.m. ET 7/5/19.

Docket Numbers: ER19-2121-000.

Applicants: Southwest Power Pool, Inc.

Description: § 205(d) Rate Filing: 1885R9 Westar Energy, Inc. NITSA NOA—Bronson to be effective 9/1/2019.

Filed Date: 6/13/19.

Accession Number: 20190613-5077.

Comments Due: 5 p.m. ET 7/5/19.

Docket Numbers: ER19-2122-000.

Applicants: Southwest Power Pool, Inc.

Description: § 205(d) Rate Filing: 1886R8 Westar Energy, Inc. NITSA NOA—Doniphan REC to be effective 9/1/2019.

Filed Date: 6/13/19.

Accession Number: 20190613-5090.

Comments Due: 5 p.m. ET 7/5/19.

Docket Numbers: ER19-2123-000.

Applicants: Sierra Pacific Power Company.

Description: § 205(d) Rate Filing: Service Agreement No. 19-00026 SPPC Open Mountain SGIA to be effective 6/14/2019.

Filed Date: 6/13/19.

Accession Number: 20190613-5110.

Comments Due: 5 p.m. ET 7/5/19.

Docket Numbers: ER19-2124-000.

Applicants: Southwest Power Pool, Inc.

Description: § 205(d) Rate Filing: 1887R9 Westar Energy, Inc. NITSA NOA—Elsmore to be effective 9/1/2019.

Filed Date: 6/13/19.

Accession Number: 20190613-5116.

Comments Due: 5 p.m. ET 7/5/19.

Docket Numbers: ER19-2125-000.

Applicants: PJM Interconnection, L.L.C.

Description: § 205(d) Rate Filing: Amendment to First Revised ISA, SA No. 4776, Queue No. AB1-014/AC2-066 to be effective 4/16/2018.

Filed Date: 6/13/19.

Accession Number: 20190613-5124.

Comments Due: 5 p.m. ET 7/5/19.

Docket Numbers: ER19-2126-000.

Applicants: Southwest Power Pool, Inc.

Description: § 205(d) Rate Filing: 1897R9 Westar Energy, Inc. NITSA NOA—Elwood to be effective 9/1/2019.

Filed Date: 6/13/19.

Accession Number: 20190613-5125.

Comments Due: 5 p.m. ET 7/5/19.

Docket Numbers: ER19-2127-000.

Applicants: Midcontinent Independent System Operator, Inc.

Description: § 205(d) Rate Filing: 2019-06-13_SA 2465 Rock Aetna Power-Northern States Power 2nd Revised GIA (G621) to be effective 6/14/2019.

Filed Date: 6/13/19.

Accession Number: 20190613-5130.

Comments Due: 5 p.m. ET 7/5/19.

Docket Numbers: ER19-2128-000.

Applicants: NRG Sterlington Power LLC.

Description: § 205(d) Rate Filing: Notice of Succession to be effective 5/15/2019.

Filed Date: 6/13/19.

Accession Number: 20190613-5141.

Comments Due: 5 p.m. ET 7/5/19.

Take notice that the Commission received the following electric securities filings:

Docket Numbers: ES19-34-000.

Applicants: Consumers Energy Company.

Description: Application under Section 204 of the Federal Power Act for Authorization to Issue Securities of Consumers Energy Company.

Filed Date: 6/12/19.

Accession Number: 20190612-5175.

Comments Due: 5 p.m. ET 7/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2019.
Nathaniel J. Davis, Sr.,
Deputy Secretary.

[FR Doc. 2019-12964 Filed 6-18-19; 8:45 am]

BILLING CODE 6717-01-P